DEPARTMENT OF HEALTH AND HUMAN SERVICES

Food and Drug Administration

[Docket No. FDA-2011-N-0002]

Dialogues in Diversifying Clinical Trials: Successful Strategies for Engaging Women and Minorities in Clinical Trials

AGENCY: Food and Drug Administration, HHS.

ACTION: Notice of meeting.

The Food and Drug Administration (FDA) is announcing the following Office of Women's Health and Society for Women's Health Research jointly sponsored meeting: Dialogues in Diversifying Clinical Trials: Successful Strategies for Engaging Women and Minorities in Clinical Trials. The purpose of this symposium is to facilitate the broader discussion and dissemination of innovative strategies for increasing the recruitment and retention of women and minority subpopulations into clinical trials. The overarching goal of this symposium is to use a best practices learning exchange to share information and encourage successful methods and/or model implementation within a broad research community—industry, academia, and government.

Date and Time: The meeting will be held on September 22, 2011, from 8 a.m. to 9 a.m. (registration); 9 a.m. to 5:30 p.m. (program); 5:30 p.m. to 6:30 p.m. (reception); and September 23, from 8 a.m. to 1:30 p.m.

Location: The meeting will be held at L'Enfant Plaza Hotel, 480 L'Enfant Plaza, SW., Washington, DC 20024.

Contact: Deborah Kallgren, FDA Office of Women's Health, 10903 New Hampshire Ave., Bldg. 32, Rm. 2314, Silver Spring, MD 20993-0002, 301-796-9442, Fax: 301-847-8604, e-mail: deborah.kallgren@fda.hhs.gov.

Registration: Registration is free, but seating is limited to 200. Registration will be accepted online and is available at http://www.swhr.org through September 16, 2011. For information regarding registration contact: Rachel Griffith, Society for Women's Health Research (SWHR), 1025 Connecticut Ave., NW., Suite 701, Washington, DC 20036, 202-496-5001, Fax: 202-833-3472, e-mail: rachel@swhr.org.

If you need special accommodations due to a disability, please contact Rachel Griffith at least 7 days in advance.

Dated: August 12, 2011.
Leslie Kux,
Acting Assistant Commissioner for Policy.

[FR Doc. 2011-21042 Filed 8-17-11; 8:45 am]

BILLING CODE 4160-01-P